NUCLEAR REGULATORY COMMISSION

[Docket No. 50-440; NRC-2018-0021]

FirstEnergy Nuclear Operating Company, Perry Nuclear Power Plant, Unit No. 1

AGENCY: Nuclear Regulatory Commission.

ACTION: License amendment application; withdrawal by applicant.

SUMMARY: The U.S. Nuclear Regulatory Commission (NRC) has granted the request of FirstEnergy Nuclear Operating Company to withdraw its application dated December 20, 2017, for a proposed amendment to the Perry Nuclear Power Plant, Unit. No. 1, Facility Operating License No. NPF-58. The proposed amendment would have modified the facility technical specifications (TSs) pertaining to direct current electrical systems, specifically limiting conditions for operation 3.8.4, 3.8.5, and 3.8.6. The proposed amendment would have also added a new Battery and Monitoring Maintenance Program to TS Section 5.5, “Programs and Manuals.”

DATES: May 29, 2018.

ADDRESSES: Please refer to Docket ID NRC-2018-0021 when contacting the NRC about the availability of information regarding this document. You may obtain publicly-available information related to this document using any of the following methods:

• Federal Rulemaking website: Go to http://www.regulations.gov and search for Docket ID NRC-2018-0021. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Kimberly Green, Office of Nuclear Reactor Regulation, U.S. Nuclear Regulatory Commission, Washington, DC 20555-0001; telephone: 301-415-1627, email: Kimberly.Green@nrc.gov.

SUPPLEMENTARY INFORMATION: The NRC has granted the request of FirstEnergy Nuclear Operating Company (the licensee) to withdraw its December 20, 2017, application (ADAMS Accession No. ML17355A019) for proposed amendment to Facility Operating License No. NPF-58 for the Perry Nuclear Power Plant, Unit No. 1, located in Lake County, Ohio.

The proposed amendment would have revised TS requirements related to direct current electrical systems, specifically limiting conditions for operation 3.8.4, 3.8.5, and 3.8.6. The amendment would have also added a new Battery and Monitoring Maintenance Program to TS Section 5.5, “Programs and Manuals.”

The Commission had previously issued a Notice of Consideration of Issuance of Amendment published in the Federal Register on February 13, 2018 (83 FR 6225). However, by letter dated May 14, 2018, the licensee withdrew the proposed change (ADAMS Accession No. ML18135A012).

For further details with respect to this action, see the application for amendment dated December 20, 2017, and the licensee's letter dated May 14, 2018, which withdrew the application for license amendment.

Dated at Rockville, Maryland, this 22nd day of May 2018.
For the Nuclear Regulatory Commission.
Kimberly J. Green,
Senior Project Manager, Plant Licensing Branch III, Division of Operating Reactor Licensing, Office of Nuclear Reactor Regulation.

[FR Doc. 2018-11375 Filed 5-25-18; 8:45 am]

BILLING CODE 7590-01-P